DEPARTMENT OF ENERGY

10 CFR Part 430

[EERE-2020-BT-TP-0002]

RIN 1904-AE85

Energy Conservation Program: Definition of Showerhead; Correction

AGENCY: Office of Energy Efficiency and Renewable Energy, Department of Energy.

ACTION: Final rule; correction.

SUMMARY: On December 16, 2020, the U.S. Department of Energy (DOE) published a final rule amending the definition of showerhead. This correction republishes an amendment from the final rule that could not be incorporated into the Code of Federal Regulations (CFR) due to an inaccurate amendatory instruction. Neither the errors nor the corrections in this document affect the substance of the rulemaking or any of the conclusions reached in support of this final rule.

DATES: Effective Date: January 15, 2021.

FOR FURTHER INFORMATION CONTACT: Ms. Amelia Whiting, U.S. Department of Energy, Office of the General Counsel, GC-33, 1000 Independence Avenue SW, Washington, DC 20585. Telephone: (202) 586-2588. Email: Amelia.Whiting@hq.doe.gov.

SUPPLEMENTARY INFORMATION:

DOE published a final rule in the Federal Register on December 16, 2020 (the “December 2020 final rule”), amending the definition of showerhead. 85 FR 81341. This document corrects the regulatory text instruction for 10 CFR 430.3.

In FR Doc. 2020-27280, appearing on page 81341, in the Federal Register of Wednesday, December 16, 2020, the following correction is made:

§ 430.3 [Corrected]

On page 81359, in the third column, amendatory instruction 3.c., “Redesignating paragraphs (q) through (u) and paragraphs (r) through (v); and” is corrected to read “Redesignating paragraphs (q) through (u) as paragraphs (r) through (v); and”.

Signing Authority

This document of the Department of Energy was signed on December 22, 2020, by Daniel R Simmons, Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 22, 2020.
Treena V. Garrett,
Federal Register Liaison Officer, U.S. Department of Energy.

[FR Doc. 2020-28761 Filed 1-7-21; 8:45 am]

BILLING CODE 6450-01-P